INTERNATIONAL TRADE COMMISSION

[Inv. No. 337-TA-780]

In the Matter of Certain Protective Cases and Components Thereof; Notice of Institution of Investigation; Institution of Investigation Pursuant to 19 U.S.C. 1337

AGENCY: U.S. International Trade Commission.

ACTION: Notice.

SUMMARY: Notice is hereby given that a complaint was filed with the U.S. International Trade Commission on May 25, 2011, under section 337 of the Tariff Act of 1930, as amended, 19 U.S.C. 1337, on behalf of Otter Products, LLC of Fort Collins, Colorado. A supplement was filed on June 16, 2011. The complaint, as supplemented, alleges violations of section 337 based upon the importation into the United States, the sale for importation, and the sale within the United States after importation of certain protective cases and components thereof by reason of infringement of certain claims of U.S. Patent No. 7,933,122 (“the '122 patent”); U.S. Patent No. D600,908 (“the '908 patent”); U.S. Patent No. D617,784 (“the '784 patent”); U.S. Patent No. D615,536 (“the '536 patent”); U.S. Patent No. D617,785 (“the '785 patent”); U.S. Patent No. D634,741 (“the '741 patent”); U.S. Patent No. D636,386 (“the '386 patent”); and U.S. Trademark Registration No. 3,788,534 (“the '534 trademark”); U.S. Trademark Registration No. 3,788,535 (“the '535 trademark”); U.S. Trademark Registration No. 3,623,789 (“the '789 trademark”); and U.S. Trademark Registration No. 3,795,187 (“the '187 trademark”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on June 24, 2011, Ordered That—

(1) Pursuant to subsection (b) of section 337 of the Tariff Act of 1930, as amended, an investigation be instituted to determine whether there is a violation of subsections (a)(1)(B) and (C) of section 337 in the importation into the United States, the sale for importation, or the sale within the United States after importation of certain protective cases and components thereof that infringe the `908 patent; the `784 patent; the `536 patent; the `785 patent; the `741 patent; the `386 patent; one or more of claims 1, 5-7, 13, 15, 17, 19-21, 23, 25, 27, 28, 30-32, 37, 38, 42, and 44 of the `122 patent; the `534 trademark; the `535 trademark; the `789 trademark; and the `187 trademark, and whether an industry in the United States exists as required by subsection (a)(2) of section 337;

(2) For the purpose of the investigation so instituted, the following are hereby named as parties upon which this notice of investigation shall be served:

(a) The complainant is: Otter Products, LLC, 1 Old Town Square, Suite 303, Fort Collins, CO 80524.

(b) The respondents are the following entities alleged to be in violation of section 337, and are the parties upon which the complaint is to be served:

A.G. Findings and Mfg. Co., Inc., d/b/a Ballistic, 1133 Sawgrass Corp. Parkway, Sunrise, FL 33323.

AFC Trident Inc., 14270 Albers Way, Chino, CA 91710.

Alibaba.com Hong Kong Ltd., 699 Wang Shang Road, Binjiang District, Hangzhou 310052, China.

Anbess Electronics Co. Ltd., 1F, Block B, Building 4, Cui Feng Hao Yuan, ShuiJing, BuJi, LongGang, Shenzhen, GD, 518112, China.

Cellairis Franchise, Inc., 6485 Shiloh Road, Suite B100, Alpharette, GA 30005.

Cellet Products, 14530 Anson Avenue, Santa Fe Springs, CA 90670.

DHgate.com, 6F Dimeng Commercial Building No. 3-2, Hua Yuan Road, Haidian District, Beijing, China 100191.

Griffin Technology, Inc., 1930 Air Lane Drive, Nashville, TN 37210.

Guangzhou Evotech Industry Co., Ltd., No. 28 E-05, Baoli Center Square, Jiansheda Ma Road, Guangzhou, Guangdong, China (Mainland) 510000.

Hardcandy Cases LLC, d/b/a GUMDROP LLC, 2730 Gateway Oaks Drive 100, Sacramento, CA 95833.

Hoffco Brands, Inc., d/b/a Celltronix, 4860 Ward Road, Wheat Ridge, CO 80033.

Hong Kong Better Technology Group Ltd., 10A, Hongling Building, Hongling South Road, Futian District, Shenzhen, China 518000.

Hong Kong HJJ Co. Ltd., Room 4, Block 2 West, SEG Technology Park, HuaQiang North Road, Futian District, Shenzhen, China 518028.

Hypercel Corporation, d/b/a Naztech Technologies, 28010 Industry Drive, Valencia, CA 91355.

InMotion Entertainment, 4801 Executive Park Court, Suite 100, Jacksonville, FL 32216.

MegaWatts Computers, LLC, 3501 South Sheridan Road, Tulsa, OK 74145.

National Cellular, 5620 1st Avenue, Third Floor, Brooklyn, NY 11220.

OEMBargain.com, P.O. Box 7132, Wantagh, NY 11793.

One Step Up Ltd., d/b/a Lifeworks Technology Group LLC, 1412 Broadway 3rd Floor, New York, NY 10018.

Papaya Holdings Ltd., 8/F, CNT Commercial Bldg., 302 Queen's Road, Central, Hong Kong.

Quanyun Electronics Co., Ltd., Floor 1, Workshop No. 1, Weihua Industrial Areas, Tongsheng Community, Dalang Street, Baoan District, Shenzhen, China (Mainland) 518000.

ShenZhen Star & Way Trade Co., Ltd., d/b/a DHgate Sellers Best8168 and Julyoung, Guangzhou Chaoshanglong Company, Room 901, No. 43-3 Siheng Street, Shuiyin Road, Tianhe District, Guangzhou City, China 510000.

Sinatech Industrial Co., Ltd., Room 3005, #570, FangCun, LiWan District, GuangZhou City, China.

SmileCase, 3226 Ridgeway Place, Windsor Mill, MD 21244.

Suntel Global Investment Ltd., 2F-D5, Jian Fa Square, 111#, Ji Chang Road, Baiyun District, Guangzhou, China.

TheCaseInPoint.com, 793 Marian Court, Titusville, FL 32780.

TheCaseSpace, 215 East Foothills Parkway #D-003, Fort Collins, CO 80525.

Topter Technology Co. Ltd., 2nd Floor, Building B, Jinkajin Industrial Zone, Minying Industrial Park, Shuitian Village, Shiyan Town, Shenzhen Guangdong, China.

Trait Technology (Shenzhen) Co., Ltd., 416—419RM, 305# Sufa Building, Huafa North Road, Futian District, Shenzhen, China.

(c) The Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: June 24, 2011.
By order of the Commission.
James R. Holbein,
Secretary to the Commission.

[FR Doc. 2011-16361 Filed 6-29-11; 8:45 am]

BILLING CODE 7020-02-P